DEPARTMENT OF THE TREASURY

Submission for OMB Review; Comment Request

May 3, 2005.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 9, 2005 to be assured of consideration.

Internal Revenue Service (IRS)

OMB Number: 1545-0065.

Form Numbers: IRS Forms 4070, 4070A, 4070PR, 4070A-PR.

Type of Review: Revision.

Title: Form 4070: Employee's report of Tips to Employer; Form 4070A: Employee's Daily Record of Tips; Forma 4070PR: Informe al Patrono de Propinas Recibidas por el Empleado; and Forma 4070A-PR: Registro Diario de Propinas del Empleado.

Description: Employees who receive at least $20 per month in tips must report the tips to their employers monthly for purposes of withholding of employment taxes. Forms 4070 and 4070PR (Puerto Rico only) are used for this purpose. Employees must keep a daily record of tips they receive. Forms 4070A and 4070A-PR are used for this purpose.

Respondents: Individuals or households.

Estimated Number of Respondents/Recordkeepers: 615,000.

Estimated Burden Hours Respondent/Recordkeeper:

Form | Recordkeeping | Learning about the law or the form | Preparing the form | Copying and proving the form
4070 | 6 min. | 2 min. | 16 min. | 10 min.
4070A | 3 hr., 23 min. | 21 min. | 54 min. | 27 min.
4070PR | 6 min. | 3 min. | 12 min. | 10 min.
4070A-PR | 3 hr., 23 min. | 2 min. | 54 min. | 27 min.

Frequency of response: Monthly.

Estimated Total Reporting/Recordkeeping Burden: 39,769,200 hours.

OMB Number: 1545-0863.

Regulation Project Number: LR-218-78 Final.

Type of Review: Extension.

Title: Product Liability Losses and Accumulations for Product Liability Losses.

Description: Generally, a taxpayer who sustains a product liability loss must carry the loss back 10 years. However, a taxpayer may elect to have such loss treated as a regular net operating loss under section 172. If desired, such election is made by attaching a statement to the tax return. This statement will enable the IRS to monitor compliance with the statutory requirements.

Respondents: Business or other for-profit.

Estimated Number of Respondents: 5,000.

Estimated Burden Hours Respondent: 30 minutes.

Frequency of response: On occasion.

Estimated Total Reporting Burden: 2,500 hours.

OMB Number: 1545-0987.

Regulation Project Number: IA-62-91 Final and Temporary.

Type of Review: Extension.

Title: Capitalization and Inclusion in Inventory of Certain Costs.

Description: The paperwork requirements are necessary to determine whether taxpayers comply with the cost allocation rules of section 263A and with the requirements for changing their methods of accounting. The information will be used to verify taxpayers' changes in methods of accounting.

Respondents: Business or other for-profit, Farms.

Estimated Number of Respondents/Recordkeepers: 20,000.

Estimated Burden Hours Respondent/Recordkeeper: 5 hours.

Frequency of response: Other (in the year of change).

Estimated Total Reporting/Recordkeeping Burden: 100,000 hours.

OMB Number: 1545-1244.

Regulation Project Number: PS-39-89 Final.

Type of Review: Extension.

Title: Limitation on Passive Activity Losses and Credits—Treatment of Self-Charged Items of Income and Expense.

Description: The IRS will use this information to determine whether the entity has made a proper timely election and to determine that taxpayers are complying with the election in the taxable year of the election and subsequent taxable years.

Respondents: Business or other for-profit, Individuals or households.

Estimated Number of Respondents: 1,000.

Estimated Burden Hours Respondent: 6 minutes.

Frequency of response: Other (first taxable year that entity seeks to make election).

Estimated Total Reporting Burden: 150 hours.

OMB Number: 1545-1647.

Revenue Procedure Number: Revenue Procedure 2001-21.

Type of Review: Extension.

Title: Debt Roll-Ups.

Description: This revenue procedure provides for an election that will facilitate the consolidation of two or more outstanding debt instruments into a single debt instrument. Under the election, taxpayers can treat certain exchanges of debt instruments as realization events for federal income tax purposes even through the exchanges do not result in significant modifications under § 1.1001-3 of the Income Tax Regulations.

Respondents: Business or other for-profit.

Estimated Number of Respondents/Recordkeepers: 100.

Estimated Burden Hours Respondent/Recordkeeper: 45 minutes.

Frequency of response: On occasion.

Estimated Total Reporting/Recordkeeping Burden: 75 hours.

OMB Number: 1545-1650.

Regulation Project Number: REG-208156-91 Final.

Type of Review: Extension.

Title: Accounting for Long-Term Contracts.

Description: The information collected is required to notify the Commissioner of a taxpayer's decision to sever to aggregate one or more long-term contracts under the regulations. The statement is needed so the Commissioner can determine whether taxpayer properly severed or aggregated its contract(s). The regulations affect any taxpayer that manufactures or constructs property under long-term contracts.

Respondents: Business or other for-profit.

Estimated Number of Respondents: 50,000.

Estimated Burden Hours Respondent: 15 minutes.

Frequency of response: On occasion.

Estimated Total Reporting Burden: 12,500 hours.

OMB Number: 1545-1771.

Revenue Procedure Number: Revenue Procedure 2002-15.

Type of Review: Extension.

Title: Automatic Relief for Late Initial Entity Classification Elections-Check the Box.

Description: 26 CFR 301.9100-1 and 301-9100-3 provides the Internal Revenue Service with authority to grant relief for late entity classification elections. This revenue procedure provides that, in certain circumstances, taxpayers whose initial entity classification election was filed late can obtain relief by filing Form 8832 and attaching a statement explaining that the requirements of the revenue procedure have been met.

Respondents: Business or other for-profit.

Estimated Number of Respondents: 100.

Estimated Burden Hours Respondent: 1 hour.

Frequency of response: Other (once).

Estimated Total Reporting Burden: 100 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Lois K. Holland,
Treasury PRA Clearance Officer.

[FR Doc. 05-9288 Filed 5-9-05; 8:45 am]

BILLING CODE 4830-01-P